DEPARTMENT OF COMMERCE

International Trade Administration

[A-570-073]

Common Alloy Aluminum Sheet From the People's Republic of China: Amended Final Results of Antidumping Duty Administrative Review, 2018-2020

AGENCY: Enforcement and Compliance, International Trade Administration, Department of Commerce.

SUMMARY: The Department of Commerce (Commerce) is amending the final results of the administrative review of the antidumping duty order on common alloy aluminum sheet from the People's Republic of China to correct ministerial errors. The period of review (POR) is June 22, 2018, through January 31, 2020.

DATES: Applicable February 4, 2022.

FOR FURTHER INFORMATION CONTACT: Frank Schmitt or Fred Baker, AD/CVD Operations, Office VI, Enforcement and Compliance, International Trade Administration, U.S. Department of Commerce, 1401 Constitution Avenue NW, Washington, DC 20230; telephone: (202) 482-4880 or (202) 482-2924, respectively.

Background

On December 27, 2021, Commerce disclosed its calculations for the Final Results ¹ to interested parties.² On January 3, 2022, the domestic industry ³ submitted an allegation of ministerial errors in the Final Results.⁴ No other party made an allegation of ministerial errors or submitted a reply to the domestic industry's ministerial error allegation.

¹ See Common Alloy Aluminum Sheet from the People's Republic of China: Final Results of Antidumping Duty Administrative Review, Final Successor-In-Interest Determination, and Final Determination of No Shipments; 2018-2020, 86 FR 74066 (December 29, 2021) (Final Results).

² See Memorandum, “Common Alloy Aluminum Sheet from the People's Republic of China, 2018-2020: Final Results Disclosure,” dated December 27, 2021.

³ The domestic industry is the Aluminum Association Common Alloy Aluminum Sheet Trade Enforcement Working Group and its individual members.

⁴ See Domestic Industry's Letter, “1st Administrative Review of the Antidumping Order on Common Alloy Aluminum Sheet from the People's Republic of China—Domestic Industry's Comments Identifying a Ministerial Error in Final Results,” dated January 3, 2022.

Legal Framework

Section 751(h) of the Tariff Act of 1930, as amended (the Act), defines a “ministerial error” as including “errors in addition, subtraction, or other arithmetic function, clerical errors resulting from inaccurate copying, duplication, or the like, and any other unintentional error which the administering authority considers ministerial.” With respect to final results of administrative reviews, 19 CFR 351.224(e) provides that Commerce “will analyze any comments received and, if appropriate, correct any ministerial error by amending . . . the final results of review . . .”

Ministerial Error

Commerce agrees with the domestic industry that Commerce made inadvertent, unintentional errors in the Final Results within the meaning of section 751(h) of the Act and 19 CFR 351.224(f) with respect to its calculation of financial ratios from the financial statement of Alcomet A.B. used in the calculation of normal value for respondent, Jiangsu Alcha Aluminum Co., Ltd., Baotou Alcha Aluminum Co., Ltd., and Alcha International Holdings Limited (collectively, Alcha). Accordingly, Commerce determines that, in accordance with section 751(h) of the Act and 19 CFR 351.224(f), it made ministerial errors in the Final Results.

For a complete discussion of the ministerial error allegation, as well as Commerce's analysis, see the accompanying Ministerial Error Memorandum.⁵ The Ministerial Error Memorandum is a public document and is on file electronically via Enforcement and Compliance's Antidumping and Countervailing Duty Centralized Electronic Service System (ACCESS). ACCESS is available to registered users at https://access.trade.gov.

⁵ See Memorandum, “Administrative Review of the Antidumping Duty Order on Common Alloy Aluminum Sheet from the People's Republic of China: Ministerial Error Allegation in the Final Results,” dated concurrently with this notice (Ministerial Error Memorandum).

Pursuant to 19 CFR 351.224(e), Commerce is amending the Final Results to reflect the correction of a ministerial error in the calculation of the weighted-average dumping margin assigned to Alcha in the Final Results, which changes from 56.93 percent to 58.61 percent. Furthermore, we are revising the dumping margin applicable to the company not selected for individual examination in this administrative review, Yinbang Clad Material Co., Ltd. (Yinbang Clad), which is based entirely on Alcha's weighted-average dumping margin.⁶

⁶ See Final Results, 86 FR at 74067.

Amended Final Results

As a result of correcting the ministerial errors, Commerce determines that the following weighted-average dumping margins exist for the period June 22, 2018, through January 31, 2020:

Exporter | Weighted- average dumping margin (percent)
Jiangsu Alcha Aluminum Co., Ltd.⁷/Baotou Alcha Aluminum Co., Ltd./Alcha International Holdings Limited | 58.61
Yinbang Clad Material Co., Ltd. | 58.61

Disclosure

⁷ For the purposes of this review, we have considered the names Jiangsu Alcha Aluminum Co., Ltd. and Jiangsu Alcha Aluminium Co., Ltd., as equivalent.

We intend to disclose the calculations performed to parties in this proceeding within five days after publication of these amended final results in the Federal Register, in accordance with 19 CFR 351.224(b).

Assessment Rates

Pursuant to section 751(a)(2)(C) of the Act and 19 CFR 351.212(b), Commerce has determined, and U.S. Customs and Border Protection (CBP) shall assess, antidumping duties on all appropriate entries of subject merchandise in accordance with these amended final results of review. We intend to issue assessment instructions to CBP no earlier than 35 days after the date of publication of these final results. If a timely summons is filed at the U.S. Court of International Trade, the assessment instructions will direct CBP not to liquidate relevant entries until the time for parties to file a request for a statutory injunction has expired (i.e., within 90 days of publication).

Where Alcha reported reliable entered values, we calculated importer- (or customer-) specific ad valorem rates by aggregating the dumping margins calculated for all U.S. sales to each importer (or customer) and dividing this amount by the total entered value of the sales to each importer (or customer).⁸ Where Commerce calculated a weighted-average dumping margin by dividing the total amount of dumping for reviewed sales to that party by the total sales quantity associated with those transactions, Commerce will direct CBP to assess importer- (or customer-) specific assessment rates based on the resulting per-unit rates.⁹ Where an importer- (or customer-) specific ad valorem or per-unit rate is greater than de minimis (i.e., 0.50 percent), Commerce will instruct CBP to collect the appropriate duties at the time of liquidation.¹⁰ Where an importer- (or customer-) specific ad valorem or per-unit rate is zero or de minimis, Commerce will instruct CBP to liquidate appropriate entries without regard to antidumping duties.¹¹

⁸ See 19 CFR 351.212(b)(1).

⁹ Id.

¹⁰ Id.

¹¹ See 19 CFR 351.106(c)(2).

For the non-selected respondent that received a separate rate, Yinbang Clad, we will instruct CBP to apply an antidumping duty assessment rate of 58.61 percent to all entries of subject merchandise that entered the United States during the POR. For the companies that we determined had no reviewable entries of the subject merchandise in this review period, any suspended entries that entered under those exporters' case numbers (i.e., at the exporters' rates) will be liquidated at the China-wide rate, i.e., 59.72 percent.¹² For all other companies, we will instruct CBP to apply the antidumping duty assessment rate of the China-wide entity to all entries of subject merchandise exported by these companies.¹³

¹² For a full discussion of this practice, see Non-Market Economy Antidumping Proceedings: Assessment of Antidumping Duties, 76 FR 65694 (October 24, 2011).

¹³ See Initiation of Antidumping and Countervailing Duty Administrative Reviews, 85 FR 19730, 19731 (April 8, 2020) (“All firms listed below that wish to qualify for separate rate status in the administrative reviews involving NME countries must complete, as appropriate, either a separate rate application or certification, as described below.”).

Cash Deposit Requirements

The following cash deposit requirements will be effective upon publication of the final results of this review for shipments of the subject merchandise from China entered, or withdrawn from warehouse, for consumption on or after the publication date, as provided by section 751(a)(2)(C) of the Act: (1) For subject merchandise exported by the companies listed above that have separate rates, the cash deposit rate will be the rate established in these final results of review for each exporter as listed above; (2) for previously investigated or reviewed Chinese and non-Chinese exporters not listed above that received a separate rate in a prior segment of this proceeding, except for the companies which lost their separate rate eligibility in this review, the cash deposit rate will continue to be the existing exporter-specific rate; (3) for all Chinese exporters of subject merchandise that have not been found to be entitled to a separate rate, or lost their separate rate eligibility in this review, the cash deposit rate will be that for the China-wide entity; and (4) for all non-Chinese exporters of subject merchandise which have not received their own rate, the cash deposit rate will be the rate applicable to the Chinese exporter that supplied that non-Chinese exporter. These deposit requirements, when imposed, shall remain in effect until further notice.

Notification to Importers

This notice also serves as a final reminder to importers of their responsibility under 19 CFR 351.402(f)(2) to file a certificate regarding the reimbursement of antidumping duties prior to liquidation of the relevant entries during this review period. Failure to comply with this requirement could result in Commerce's presumption that reimbursement of antidumping duties occurred and the subsequent assessment of double antidumping duties.

Notification Regarding Administrative Protective Order

This notice also serves as a reminder to parties subject to administrative protective order (APO) of their responsibility concerning the disposition of proprietary information disclosed under APO in accordance with 19 CFR 351.305(a)(3). Timely written notification of return/destruction of APO materials or conversion to judicial protective order is hereby requested. Failure to comply with the regulations and the terms of an APO is a sanctionable violation.

Notification to Interested Parties

We are issuing and publishing this notice in accordance with sections 751(h) and 777(i)(1) of the Act, and 19 CFR 351.224(e).

Dated: January 31, 2022.
Lisa W. Wang,
Assistant Secretary for Enforcement and Compliance.

[FR Doc. 2022-02351 Filed 2-3-22; 8:45 am]

BILLING CODE 3510-DS-P